NATIONAL AERONAUTICS AND SPACE ADMINISTRATION

[Notice: (14-109)]

NASA Advisory Council; Science Committee; Astrophysics Subcommittee; Meeting

AGENCY: National Aeronautics and Space Administration.

ACTION: Notice of meeting.

SUMMARY: In accordance with the Federal Advisory Committee Act, Public Law 92-463, as amended, the National Aeronautics and Space Administration (NASA) announces a meeting of the Astrophysics Subcommittee of the NASA Advisory Council (NAC). This Subcommittee reports to the Science Committee of the NAC. The meeting will be held for the purpose of soliciting, from the scientific community and other persons, scientific and technical information relevant to program planning.

DATES: Friday, November 14, 2014, 11:00 a.m.-5:00 p.m., Local Time.

FOR FURTHER INFORMATION CONTACT: Ms. Ann Delo, Science Mission Directorate, NASA Headquarters, Washington, DC 20546, (202) 358-0750, fax (202) 358-2779, or ann.b.delo@nasa.gov.

SUPPLEMENTARY INFORMATION: This meeting will be open to the public telephonically and by WebEx. Any interested person may call the USA toll free conference call number 866-844-9416, Passcode APS, to participate in this meeting by telephone. The WebEx link is https://nasa.webex.com/, meeting number 999-351-851, Password APS@NOV14.

The agenda for the meeting includes the following topics:

—Astrophysics Division Update

—Astrophysics Implementation Plan

—James Webb Space Telescope Observing Policy

—Program Analysis Group Updates

It is imperative that the meeting be held on this date to accommodate the scheduling priorities of the key participants. Due to administrative error, this advisory committee meeting notice is being published with less than 15 calendar day advance publication requirement. Exceptional circumstances warrant proceeding with the meeting. Subcommittee members were informed of the meeting date several months ago, and have made firm schedule commitments for this meeting. To mitigate the late publication, the Agency will issue a NASA Solicitation and Proposal Integrated Review and Evaluation System (NSPIRES) announcement to members of the scientific community. In addition, corrective action is being taken by the Agency to prevent future late meeting notices.

Patricia D. Rausch,
Advisory Committee Management Officer, National Aeronautics and Space Administration.

[FR Doc. 2014-26658 Filed 11-7-14; 8:45 am]

BILLING CODE 7510-13-P